DEPARTMENT OF ENERGY

Federal Energy Regulatory Commission

[Docket Nos. ER02-2043-001 and ER02-2046-001]

California Independent System Operator Corporation; Notice of Filing

September 10, 2002.

Take notice that the on August 28, 2002, California Independent System Operator Corporation (CA ISO) tendered for filing an amendment to its filings of an unexecuted Participating Generator Agreement (PGA) and associated Meter Service Agreements (MSA) between the CA ISO and the Valero Refining Company—California (Valero) pursuant to section 205 of the Federal Power Act. The amendment supplies additional information requested in a July 30, 2002 deficiency letter by the Federal Energy Regulatory Commission (Commission) including a single line diagram, correspondence, studies and other documents relating to alternative points of interconnection, and a description of scheduling responsibilities of Valero and Pacific Gas and Electric Company (PG&E).

The CA ISO states that a redacted copy of the filing has been served on all parties that have either requested or been granted intervention in these proceedings.

Any person desiring to intervene or to protest this filing should file with the Federal Energy Regulatory Commission, 888 First Street, NE, Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the “FERRIS” link. Enter the docket number excluding the last three digits in the docket number filed to access the document. For assistance, call (202) 502-8222 or TTY, (202) 208-1659. Protests and interventions may be filed electronically via the Internet in lieu of paper; see 18 CFR 385.2001(a)(1)(iii) and the instructions on the Commission's web site under the “e-Filing” link. The Commission strongly encourages electronic filings. Comment Date: September 18, 2002.

Linwood A. Watson, Jr.,
Deputy Secretary.

[FR Doc. 02-23441 Filed 9-13-02; 8:45 am]

BILLING CODE 6717-01-P